DEPARTMENT OF COMMERCE

National Oceanic and Atmospheric Administration

RIN: 0648-XQ32

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Protected Resources Committee, its Research Set-Aside Committee, its Ecosystems and Ocean Planning Committee, its Bycatch and Limited Access Privilege Program (LAPP) Committee, its Squid, Mackerel, Butterfish Committee, and its Executive Committee will hold public meetings.

DATES: The meetings will be held Tuesday, August 4, 2009 through Thursday, August 6, 2009. See SUPPLEMENTARY INFORMATION for specific dates and times.

ADDRESSES: The meetings will be held at the Embassy Suites Alexandria, 1900 Diagonal Road, Alexandria, VA 22314; telephone: (703) 684-5900.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION: On Tuesday, August 4, the Protected Resources Committee with Advisors will meet concurrently with the Research Set-Aside Committee (RSA) from 8 a.m. until 9:30 a.m. The Ecosystems and Ocean Planning Committee will meet from 9:30 a.m. until 11:30 a.m. The Bycatch and LAPP Committee will meet from 12:30 p.m. until 1:30 p.m. The Squid, Mackerel, and Butterfish Committee will meet from 1:30 p.m. until 2:30 p.m. From 2:30 p.m. until 3:15 p.m., the Council will hear a report on the outcome of the 48th Stock Assessment Review Committee meeting. From 3:15 p.m. until 5:15 p.m., the Council will finalize scup management measures for 2010 in conjunction with the Atlantic States Marine Fisheries Commission's (ASMFC) Summer Flounder, Scup, and Black Sea Bass Board. On Wednesday, August 5, 2009, the Executive Committee will meet from 8:30 a.m. until 9 a.m. From 9 a.m. until 5 p.m., the Council will convene to finalize summer flounder, black sea bass, and bluefish management measures for 2010 in conjunction with the ASMFC's Summer Flounder, Black Sea Bass, and Bluefish Boards, and receive an update from United States Coast Guard (USCG) officers on vessel stability and activities in the USCG's 5th District. On Thursday, August 6, the Council will convene from 8 a.m. until 9 a.m., to receive a presentation on Amendment 3 to the Consolidated Atlantic Highly Migratory Species Fishery Management Plan. From 9 a.m. until 12 p.m., the Council will discuss the Omnibus Amendment on Annual Catch Limits and Accountability Measures (ACL/AM). From 1 p.m. until 4 p.m., the Council will convene to conduct its regular Business Session, receive Council Liaison Reports, Organizational Reports, Executive Director Reports, receive a report on the status of MAFMC's FMPs, Committee Reports, and any continuing and/or new business.

Agenda items by day for the Council's Committees and the Council itself are: On Tuesday, August 4 - The Protected Resources Committee with Advisors will develop comments for Council consideration and action regarding NMFS' sea turtle strategy. The Research Set-Aside Committee (RSA) will finalize the Council's research priorities for the 2011 cycle of its RSA grant program. The Ecosystems and Ocean Planning Committee will review and address Marine Protected Area (MPA) designations published in the April 23rd Federal Register and consider adding or deleting MPA designations per NMFS guidance. The Bycatch and Limited Access Privilege Program (LAPP) Committee will receive an update on NOAA's Catch Shares Task Force activities and receive a report on bycatch reduction activities in the black sea bass pot fishery. The Squid, Mackerel, and Butterfish Committee will address river herring bycatch issues in the mackerel fishery for purposes of considering development of a possible future amendment, and address an update of the Loligo control date for a possible future catch share program. The Council will receive a report by Dr. James Weinberg (NMFS, NEFSC) on the outcome of the 48th Stock Assessment Review Committee meeting concerning ocean quahog, tilefish, and weakfish. The Council in conjunction with the Atlantic States Marine Fisheries Commission's (ASMFC) Summer Flounder, Scup, and Black Sea Bass Board will review the Scientific and Statistical Committee (SSC) and the Scup Monitoring Committee's scup specification recommendations for 2010 and adopt 2010 commercial and recreational harvest levels and commercial management measures for scup.

On Wednesday, August 5 - The Executive Committee will meet to review the Ricks E Savage Award criteria and nomination process, and review allocation of FY 09 funds to ACL/AM activities. The Council in conjunction with the ASMFC's Summer Flounder, Scup, Black Sea Bass, and Bluefish Boards will review the SSC and the associated Monitoring Committees' specification recommendations for 2010 and adopt 2010 commercial and recreational harvest levels and commercial management measures for summer flounder, and bluefish. Recreational management measures for 2010 will also be adopted for bluefish. The Council will also receive a presentation on vessel stability and activities of the USCG's 5th District.

On Thursday, August 6 - The Council will receive a presentation by NMFS Officials regarding the proposed rule for Amendment 3 to the Consolidated Atlantic Highly Migratory Species Fishery Management Plan. The Council will then address its Omnibus Amendment on ACL/AMs by reviewing and discussing the SSC's report on Scientific Uncertainty and Risk; reviewing and selecting management alternatives to establish ABCs, ACLs and AMs for continued Amendment development regarding each of the Council's FMPs species; and, discussing risk policy development regarding setting of ABCs and ACLs. The Council will conduct its regular Business Session, receive Council Liaison Reports, Organizational Reports, the Executive Director's Report, a report on the status of the Council's FMPs, Committee Reports, and any continuing and/or new business including approval of Council comments regarding NMFS' Proposed Rule on Sea Turtle Strategy and the Council's updated multi-year research priorities (2010-2014).

Although non-emergency issues not contained in this agenda may come before the Council for discussion, these issues may not be the subject of formal Council action during this meeting. Council action will be restricted to those issues specifically listed in this notice and any issues arising after publication of this notice that require emergency action under Section 305(c) of the Magnuson-Stevens Act, provided the public has been notified of the Council's intent to take final action to address such emergencies.

Special Accommodations

This meeting is physically accessible to people with disabilities. Requests for sign language interpretation or other auxiliary aid should be directed to M. Jan Bryan, (302) 674-2331, ext 18, at least 5 days prior to the meeting date.

Dated: July 13, 2009.
Tracey L. Thompson,
Acting Director, Office of Sustainable Fisheries, National Marine Fisheries Service.

[FR Doc. E9-16909 Filed 7-15-09; 8:45 am]

BILLING CODE 3510-22-S